DEPARTMENT OF AGRICULTURE

Food and Nutrition Service

Agency Information Collection Activities: Proposed Collection; Comment Request—Summer Food Service Program

AGENCY: Food and Nutrition Service, USDA.

ACTION: Notice.

SUMMARY: In accordance with the Paperwork Reduction Act of 1995, this notice invites the general public and other public agencies to comment on this proposed information collection. This collection is a revision of a currently approved information collection for the Summer Food Service Program (SFSP), which allows for the successful operation of SFSP.

DATES: Written comments must be received on or before June 18, 2019.

ADDRESSES: Comments may be sent to Andrea Farmer, Community Meals Branch, Policy and Program Development Division, Child Nutrition Programs, Food and Nutrition Service, U.S. Department of Agriculture, 3101 Park Center Drive, 12th Floor, Alexandria, VA 22302. Comments may be submitted via fax to the attention of Andrea Farmer at 703-305-6294. Comments will also be accepted through the Federal eRulemaking Portal. Go to http://www.regulations.gov, and follow the online instructions for submitting comments electronically.

All responses to this notice will be summarized and included in the request for Office of Management and Budget (OMB) approval. All comments will also become a matter of public record.

FOR FURTHER INFORMATION CONTACT: Requests for additional information or copies of this information collection should be directed to Andrea Farmer, Community Meals Branch, Policy and Program Development Division, Child Nutrition Programs, Food and Nutrition Service, U.S. Department of Agriculture, 3101 Park Center Drive, 12th Floor, Alexandria, VA 22302.

SUPPLEMENTARY INFORMATION:

Comments are invited on: (1) Whether the proposed collection of information is necessary for the proper performance of the functions of the agency, including whether the information will have practical utility; (2) the accuracy of the agency's estimate of the burden of the proposed collection of information, including the validity of the methodology and assumptions that were used; (3) ways to enhance the quality, utility and clarity of the information to be collected; and (4) ways to minimize the burden of the collection of information on those who are to respond, including use of appropriate automated, electronic, mechanical, or other technological collection techniques or other forms of information technology.

Title: Summer Food Service Program (SFSP).

Form Number: None.

OMB Number: 0584-0280.

Expiration Date: August 31, 2019.

Type of Request: Revision of a currently approved collection.

Abstract: SFSP is authorized under section 13 of the Richard B. Russell National School Lunch Act (NSLA) (42 U.S.C. 1761). The SFSP is directed toward children in low-income areas when school is not in session and is operated locally by approved sponsors. Local sponsors may include public or private non-profit school food authorities (SFAs), public or private non-profit residential summer camps, units of local, municipal, county or State governments, or other private non-profit organizations that develop a special summer program and provide meal service similar to that available to children during the school year under the National School Lunch Program (NSLP) and the School Breakfast Program (SBP).

This is a revision of a currently approved collection. It revises the reporting, recordkeeping, and public disclosure burden as a result of adjustments (e.g., updated number of sponsors of all site types). Current OMB inventory for this collection includes Reporting, Recordkeeping, and Public Disclosure burden that consists of 197,062 hours. As a result of adjustments, the reporting burden decreased from 151,975 to 125,503 hours and recordkeeping burden decreased from 43,758 to 18,620 hours, while the public disclosure burden increased from 1,329 to 1,381 hours. The average burden per response and the annual burden hours for reporting, recordkeeping, and public disclosure are explained below and summarized in the charts which follow.

Affected Public: (a) Individual/Households; (b) Business or Other For Profit; (c) Not-for-Profit; and (d) State, Local and Tribal Government. Respondent groups for this collection include Households, Camps and Other Sites, Sponsors, and State Agencies.

Estimated Number of Respondents: 64,275.

Estimated Number of Responses per Respondent: 6.19963.

Estimated Total Annual Responses: 398,481.

Estimate Time per Response: 0.365147.

Estimated Total Annual Burden: 145,504.

Current OMB Inventory: 197,062.

Difference (Burden Revisions Requested): 51,558.

Refer to the table below for estimated total annual burden for each type of respondent.

Affected public | Estimated number of respondents | Number of responses per respondent | Total annual responses | Estimated total hours per response | Estimated total burden
Reporting
State Agencies | 53 | 435 | 23,055 | 0.709 | 16,337
Sponsors | 5,524 | 4 | 21,001 | 3.110 | 65,309
Camps and Other Sites | 333 | 1 | 333 | .25 | 83
Households | 58,365 | 2 | 116,730 | .375 | 43,774
Total Estimated Reporting Burden | 64,275 | 2.506718 | 161,119 | .778944 | 125,503
Recordkeeping
State Agencies | 53 | 145 | 7,685 | .08 | 615
Sponsors | 5,524 | 41 | 223,820 | .08 | 17,906
Camps and Other Sites | 333 | 1 | 333 | .3 | 100
Total Estimated Recordkeeping Burden | 5,910 | 39.22809 | 231,838 | 0.080 | 18,620
Public Disclosure
Sponsors | 5,524 | 1 | 5,524 | 0.25 | 1,381
Total Estimated Public Disclosure | 5,524 | 1 | 5,524 | 0.25 | 1,381
Total of Reporting, Recordkeeping, and Public Disclosure of SFSP
Reporting | 64,275 | 2.506718 | 161,119 | .778944 | 125,503
Recordkeeping | 5,910 | 39.22809 | 231,838 | 0.080 | 18,620
Public Disclosure | 5,524 | 1 | 5,524 | 0.25 | 1,381
Total Burden for SFSP | 64,275 | 6.19963 | 398,481 | .365147 | 145,504

Dated: April 5, 2019.
Brandon Lipps,
Administrator, Food and Nutrition Service.

[FR Doc. 2019-07941 Filed 4-18-19; 8:45 am]

BILLING CODE 3410-30-P